DEPARTMENT OF ENERGY

Federal Energy Regulatory Commission

[Docket No. DI21-1-000]

Badger Mountain Hydro, LLC; Notice of Declaration of Intention and Soliciting Comments, Protests, and Motions To Intervene

Take notice that the following application has been filed with the Commission and is available for public inspection:

a. Application Type: Declaration of Intention.

b. Docket No: DI21-1-000.

c. Date Filed: March 10, 2021.

d. Applicant: Badger Mountain Hydro, LLC.

e. Name of Project: Badger Mountain Pumped Storage Project.

f. Location: The proposed Badger Mountain Pumped Storage Project would be located near the town of East Wenatchee, in Douglas County, Washington.

g. Filed Pursuant to: Section 23(b)(1) of the Federal Power Act, 16 U.S.C. 817(b).

h. Applicant Contact: Badger Mountain Hydro, LLC; 800 W Main Street, Ste. 1220, Boise, ID 83702; telephone: (208) 246-9925; email: mshapiro@rplusenergies.com; Agent Contact: Matthew Shapiro, CEO, Badger Mountain Hydro, LLC; 800 W Main St., Ste. 1220, Boise, ID 83702.

i. FERC Contact: Jennifer Polardino, (202) 502-6437, or Jennifer.Polardino@ferc.gov.

j. Deadline for filing comments, protests, and motions to intervene is: April 27, 2022.

The Commission strongly encourages electronic filing. Please file comments, protests, and motions to intervene using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy.

Submissions sent via the U.S. Postal Service must be addressed to: Kimberly D. Bose, Secretary, Federal Energy Regulatory Commission, 888 First Street NE, Room 1A, Washington, DC 20426Submissions sent via any other carrier must be addressed to: Kimberly D. Bose, Secretary, Federal Energy Regulatory Commission, 12225 Wilkins Avenue, Rockville, Maryland 20852. The first page of any filing should include docket number DI21-1-000. Comments emailed to Commission staff are not considered part of the Commission record.

k. Description of Project: The proposed closed-loop Badger Mountain Pumped Storage Project would consist of: (1) A 15 to 75-foot-high, 8,000-foot-long earthen embankment forming a 78-acre upper reservoir with a storage capacity of 3,090 acre-feet; (2) a 40-foot-high, 650-foot-long earthen dam and a 15-foot-high, 900-foot-long, secondary earthen embankment forming an 80 acre lower reservoir with a storage capacity of 3,380 acre-feet; (3) underground tunnels connecting the upper and lower reservoirs consisting of: (a) A 17-foot diameter, 200-foot-high vertical shaft; (b) a 17-foot diameter, 5,600-foot-long concrete/steel-lined headrace tunnel; and (c) a 17-foot diameter, 200-foot-long tailrace tunnel; (4) a powerhouse located in a vertical 220-foot-high, 100-foot-diameter shaft located next to the lower reservoir containing two 250 megawatt (MW) reversible pump-turbines/motor generators for a total installed capacity of 500 MW; (5) emergency backup groundwater wells No. 4 and 5 located in East Wenatchee and a new groundwater well located approximately 5 miles southeast of East Wenatchee to provide the initial fill and make-up water for the reservoirs; (6) an 11-mile-long transmission line connecting to the Bonneville Power Administration's Sickler substation; and (7) appurtenant facilities. The proposed project would have an estimated average annual generation of 832,200 megawatt-hours.

When a Declaration of Intention is filed with the Federal Energy Regulatory Commission, the Federal Power Act requires the Commission to investigate and determine if the project would affect the interests of interstate or foreign commerce. The Commission also determines whether or not the project: (1) Would be located on a navigable waterway; (2) would occupy public lands or reservations of the United States; (3) would utilize surplus water or water power from a government dam; or (4) would be located on a non-navigable stream over which Congress has Commerce Clause jurisdiction and would be constructed or enlarged after 1935.

l. Locations of the Application: This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must bear in all capital letters the title “COMMENTS”, “PROTESTS”, and “MOTIONS TO INTERVENE”, as applicable, and the Docket Number of the particular application to which the filing refers. A copy of any Motion to Intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

Dated: March 28, 2022.
Debbie-Anne A. Reese,
Deputy Secretary.

[FR Doc. 2022-06890 Filed 3-31-22; 8:45 am]

BILLING CODE 6717-01-P